DEPARTMENT OF COMMERCE

International Trade Administration

[A-821-802]

2020 Amendment to the Agreement Suspending the Antidumping Investigation on Uranium From the Russian Federation

AGENCY: Enforcement and Compliance, International Trade Administration, Department of Commerce.

SUMMARY: The U.S. Department of Commerce (Commerce) and the Russian Federation's State Atomic Energy Corporation Rosatom (ROSATOM) have signed an amendment to the Agreement Suspending the Antidumping Investigation on Uranium from the Russian Federation (Agreement). The amendment extends the Agreement through 2040 and allows the Russian Federation to export Russian uranium products to the United States in accordance with the export limits and other terms detailed in the amended Agreement.

DATES: Applicable October 5, 2020.

FOR FURTHER INFORMATION CONTACT: Sally C. Gannon or Jill Buckles, Bilateral Agreements Unit, Enforcement and Compliance, International Trade Administration, U.S. Department of Commerce, 1401 Constitution Avenue NW, Washington, DC 20230; telephone: (202) 482-0162 or (202) 482-6230, respectively.

SUPPLEMENTARY INFORMATION:

Background

On October 16, 1992, Commerce signed an agreement with the Russian Federation's Ministry for Atomic Energy (MINATOM), the predecessor to ROSATOM, under section 734(l) of the Tariff Act of 1930, as amended (the Act), suspending the antidumping duty investigation on uranium from the Russian Federation.¹ The Agreement was subsequently amended, by agreement of both governments, on March 11, 1994,² October 3, 1996,³ May 7, 1997,⁴ and February 1, 2008.⁵ Pursuant to the 2008 amendment, the Agreement and the underlying antidumping investigation were set to terminate on December 31, 2020.

¹ See Antidumping; Uranium from Kazakhstan, Kyrgyzstan, Russia, Tajikistan, Ukraine, and Uzbekistan; Suspension of Investigations and Amendment of Preliminary Determinations, 57 FR 49220, 49235 (October 30, 1992).

² See Amendment to Agreement Suspending the Antidumping Investigation on Uranium from the Russian Federation, 59 FR 15373 (April 1, 1994).

³ See Amendments to the Agreement Suspending the Antidumping Investigation on Uranium from the Russian Federation, 61 FR 56665 (November 4, 1996).

⁴ See Amendment to Agreement Suspending the Antidumping Investigation on Uranium from the Russian Federation, 62 FR 37879 (July 15, 1997).

⁵ See Amendment to the Agreement Suspending the Antidumping Investigation on Uranium from the Russian Federation, 73 FR 7705 (February 11, 2008).

On February 22, 2019, Commerce formally opened consultations with ROSATOM with respect to a possible extension of the Agreement's term.⁶ On September 11, 2020, Commerce and ROSATOM initialed a draft amendment to the Agreement. On September 16, 2020, Commerce published the draft amendment text in the Federal Register and invited comments from interested parties, industrial users, and the public to be submitted by September 28, 2020.⁷ On September 11, 2020, Commerce also released a draft memorandum regarding the prevention of price suppression or undercutting of domestic products pursuant to the draft amendment and requested comments to be submitted by September 28, 2020.⁸

⁶ See Letter to Rosatom from P. Lee Smith, Deputy Assistant Secretary for Policy & Negotiations, “Consultations on the Agreement Suspending the Antidumping Investigation on Uranium from the Russian Federation,” dated February 22, 2019.

⁷ See Draft Amendment to the Agreement Suspending the Antidumping Investigation on Uranium From the Russian Federation; Request for Comment, 85 FR 57824 (September 16, 2020).

⁸ See Memorandum to Jeffrey I. Kessler, Assistant Secretary for Enforcement & Compliance, from Joseph A. Laroski, Jr., Deputy Assistant Secretary for Policy & Negotiations, “Prevention of Price Suppression or Undercutting of Price Levels of Domestic Products by the Agreement Suspending the Antidumping Investigation on Uranium from the Russian Federation, as Amended,” dated September 11, 2020; see also Memorandum to the File, “Comments on Draft Price Suppression Memorandum,” dated September 14, 2020.

On September 25, 2020, Commerce received comments from Strata Energy Inc. On September 28, 2020, Commerce received comments on the draft amendment and draft memorandum from the following parties: Power Resources, Inc. and Crow Butte Resources, Inc.; the Uranium Producers of America; Louisiana Energy Services, LLC; ROSATOM and TENEX, Joint-Stock Company; Exelon Generation Company, LLC, Ameren Missouri, and the Ad Hoc Utilities Group; Centrus Energy Corp. and United States Enrichment Corporation; and Energy Fuels Resources (USA) Inc. and Ur-Energy USA Inc.

Amendment to Agreement

On October 5, 2020, after consideration of the interested party and other comments received, Commerce and ROSATOM signed a finalized amendment to the Agreement.⁹ The text of the finalized amendment is identical to the text released for public comment on September 11, 2020, except for the signature blocks. The amendment extends the Agreement through 2040 and allows for exports of Russian uranium products in the U.S. market in accordance with the export limits and other terms detailed in the amendment. In accordance with section 734(l)(1)(B) of the Act, we have determined that the amended Agreement will prevent the suppression or undercutting of price levels of domestic uranium products by imports of that merchandise from Russia. We have also determined that the amended Agreement is in the public interest and can be monitored effectively, as required under section 734(l)(1)(A) of the Act. The text of the amendment follows in the Annex of this notice with the exception of Appendix 5 which contains business proprietary information and is releasable only under the Administrative Protective Order (APO).

⁹ See Commerce Memorandum, “Placing the 2020 Amendment to the Agreement Suspending the Antidumping Investigation on Uranium from the Russian Federation on the Record,” dated October 5, 2020.

Scope of the Agreement

The product covered by the Agreement is natural uranium in the form of uranium ores and concentrates; natural uranium metal and natural uranium compounds; alloys, dispersions (including cermets), ceramic products, and mixtures containing natural uranium or natural uranium compounds; uranium enriched in U²³⁵ and its compounds; alloys, dispersions (including cermets), ceramic products, and mixtures containing uranium enriched in U²³⁵ or compounds of uranium enriched in U²³⁵; and any other forms of uranium within the same class or kind.

Uranium ore from Russia that is milled into U3O8 and/or converted into UF6 in another country prior to direct and/or indirect importation into the United States is considered uranium from Russia and is subject to the terms of this Agreement.

For purposes of this Agreement, uranium enriched in U²³⁵ or compounds of uranium enriched in U²³⁵ in Russia are covered by this Agreement, regardless of their subsequent modification or blending. Uranium enriched in U²³⁵ in another country prior to direct and/or indirect importation into the United States is not considered uranium from Russia and is not subject to the terms of this Agreement.

HEU is within the scope of the underlying investigation, and HEU is covered by this Agreement. For the purpose of this Agreement, HEU means uranium enriched to 20 percent or greater in the isotope uranium-235.

Imports of uranium ores and concentrates, natural uranium compounds, and all forms of enriched uranium are currently classifiable under the Harmonized Tariff Schedule of the United States (HTSUS) subheadings: 2612.10.00, 2844.10.20, 2844.20.00, respectively. Imports of natural uranium metal and forms of natural uranium other than compounds are currently classifiable under HTSUS subheadings: 2844.10.10 and 2844.10.50. HTSUS subheadings are provided for convenience and Customs purposes. The written description of the scope of this proceeding is dispositive.

Administrative Protective Order Access

The APO Commerce granted in the suspension agreement segment of this proceeding remains in place and effective for the amended Agreement. All new interested parties requesting access to business proprietary information submitted during the administration of the amended Agreement, under the APO currently in effect, must submit an APO application in accordance with Commerce's regulations currently in effect.¹⁰

¹⁰ See Section 777(c)(1) of the Act; see also 19 CFR 351.103, 351.304, 351.305, and 351.306.

We are issuing and publishing this notice in accordance with section 734(f)(1)(A) of the Act and 19 CFR 351.208(g)(2).

Dated: October 5, 2020.
Jeffrey I. Kessler,
Assistant Secretary for Enforcement and Compliance.

BILLING CODE 3510-DS-P

[FR Doc. 2020-22431 Filed 10-8-20; 8:45 am]

BILLING CODE 3510-DS-C